NATIONAL SCIENCE FOUNDATION

Sunshine Act Meeting

Agency Holding Meeting: National Science Foundation, National Science Board, Ad hoc Committee on NSB Nominees Class of 2006-2012.

Date and Time: June 18, 9:30 a.m.-10 a.m.

Place: National Science Foundation, Room 130, 4201 Wilson Boulevard, Arlington, VA 22230.

Status: This meeting will be open to the public.

Matters to be Considered:

Friday, June 18, 2004

Open Session (9:30 a.m.-10 a.m.)

Approve schedule of selection of final slate of candidates.

Discuss process for selection of candidates.

FOR FURTHER INFORMATION CONTACT: Dr. Michael P. Crosby, Executive Officer and NSB Office Director, (703) 292-7000, www.nsf.gov/nsb.

Michael P. Crosby,
Executive Officer and NSB Office Director.

[FR Doc. 04-13455 Filed 6-9-04; 1:58 pm]

BILLING CODE 7555-01-P